DEPARTMENT OF COMMERCE

International Trade Administration

[A-523-813]

Polyethylene Terephthalate Sheet From the Sultanate of Oman: Final Results of Changed Circumstances Review, Revocation of the Antidumping Duty Order, and Rescission of Administrative Reviews; 2020-2021 and 2021-2022

AGENCY: Enforcement and Compliance, International Trade Administration, Department of Commerce.

SUMMARY: The U.S. Department of Commerce (Commerce) is revoking the antidumping duty (AD) order on polyethylene terephthalate (PET) sheet from the Sultanate of Oman (Oman). Because the AD order is being revoked, Commerce is rescinding the 2020-2021 and 2021-2022 AD administrative reviews.

DATES: Applicable February 1, 2023.

FOR FURTHER INFORMATION CONTACT: Brittany Bauer, AD/CVD Operations, Office V, Enforcement and Compliance, International Trade Administration, U.S. Department of Commerce, 1401 Constitution Avenue NW, Washington, DC 20230; telephone: (202) 482-3860.

SUPPLEMENTARY INFORMATION:

Background

On September 10, 2020, Commerce published an AD order on PET sheet from Oman.¹ On December 27, 2022, Commerce published the preliminary results of the changed circumstances review (CCR) and revocation of the Order, pursuant to section 751(b)(1) of the Tariff Act of 1930, as amended (the Act) and 19 CFR 351.216 and 19 CFR 351.222.² We invited interested parties to comment on the Preliminary Results. We received no comments.

¹ See Polyethylene Terephthalate Sheet from the Republic of Korea and the Sultanate of Oman: Antidumping Duty Orders, 85 FR 55824 (September 10, 2020) (Order).

² See Polyethylene Terephthalate Sheet from the Sultanate of Oman: Preliminary Results of Changed Circumstances Review and Intent to Revoke the Antidumping Duty Order, 87 FR 79277 (December 27, 2022) (Preliminary Results).

Final Results of Changed Circumstances Review and Revocation of the Order

Because no party submitted comments regarding the Preliminary Results of this CCR,³ and the record contains no further information or evidence that weighs against the proposed revocation, Commerce determines, pursuant to sections 751(d)(1) and 782(h) of the Act, and 19 CFR 351.222(g), that there are changed circumstances that warrant revocation of the Order. Specifically, in light of the petitioners' statement of lack of interest, and the absence of comments from any interested party opposing the Preliminary Results, we find that producers accounting for substantially all of the production of the domestic like product to which the Order pertains lack interest in the relief provided by the Order. Accordingly, we are revoking the Order.

³ Id., 87 FR at 79278 (“{W}e preliminarily conclude that producers accounting for substantially all of the production of the domestic like product to which the Order pertains lack interest in the relief provided by the Order. Thus, we preliminarily determine that changed circumstances warrant revocation of the Order.”).

Scope of the Order

The merchandise covered by the Order is raw, pretreated, or primed polyethylene terephthalate sheet, whether extruded or coextruded, in nominal thicknesses of equal to or greater than 7 mil (0.007 inches or 177.8 µm) and not exceeding 45 mil (0.045 inches or 1143 μm) (PET sheet). The scope includes all PET sheet whether made from prime (virgin) inputs or recycled inputs, as well as any blends thereof. The scope includes all PET sheet meeting the above specifications regardless of width, color, surface treatment, coating, lamination, or other surface finish.

The merchandise subject to the Order is properly classified under statistical reporting subheading 3920.62.0090 of the Harmonized Tariff Schedule of the United States (HTSUS). Although the HTSUS subheading is provided for convenience and customs purposes, the written description of the scope is dispositive.

Application of the Final Results of the Changed Circumstances Review

Section 751(d)(3) of the Act provides that “{a} determination under this section to revoke an order . . . shall apply with respect to unliquidated entries of subject merchandise which are entered, or withdrawn from warehouse, for consumption on or after the date determined by the administering authority.” Commerce's general practice is to instruct U.S. Customs and Border Protection (CBP) to liquidate without regard to antidumping duties, and to refund any estimated antidumping duties on, all unliquidated entries of the merchandise covered by a revocation that are not covered by the final results of an administrative review or automatic liquidation.⁴ Commerce is currently conducting the first and second administrative reviews of this Order (covering the periods March 3, 2020, through August 31, 2021, and September 1, 2021, through August 31, 2022, respectively) for respondent OCTAL SAOC-FZC.⁵ We have not yet issued the final results for any administrative review of this Order.⁶

⁴ See, e.g., Certain Pasta from Italy: Final Results of Countervailing Duty Changed Circumstances Review and Revocation, In Part, 76 FR 27634 (May 12, 2011); Stainless Steel Bar from the United Kingdom: Notice of Final Results of Changed Circumstances Review and Revocation of Order, in Part, 72 FR 65706 (November 23, 2007); Notice of Final Results of Antidumping Duty Changed Circumstances Review and Revocation of Order In Part: Certain Corrosion-Resistant Carbon Steel Flat Products from Germany, 71 FR 66163 (November 13, 2006); Notice of Final Results of Antidumping Duty Changed Circumstances Reviews and Revocation of Orders in Part: Certain Corrosion-Resistant Carbon Steel Flat Products from Canada and Germany, 71 FR 14498 (March 22, 2006); and Notice of Final Results of Antidumping Duty Changed Circumstances Review, and Determination to Revoke Order in Part: Certain Cased Pencils from the People's Republic of China, 68 FR 62428 (November 4, 2003).

⁵ OCTAL SAOC-FZC was the sole respondent in the investigation and only company for which a review was requested in the administrative reviews.

⁶ See Polyethylene Terephthalate Sheet from the Sultanate of Oman: Preliminary Results of Antidumping Duty Administrative Review; 2020-2021, 87 FR 60992 (October 7, 2022); see also Memorandum, “2020-2021 Antidumping Duty Administrative Review of Polyethylene Terephthalate Sheet from the Sultanate of Oman: Extension of Deadline for Final Results of Antidumping Duty Administrative Review,” dated January 23, 2023; and Initiation of Antidumping and Countervailing Duty Administrative Reviews, 87 FR 66275, 66278 (November 3, 2022).

Consistent with our practice, we are applying the final results of this CCR to all unliquidated entries of the merchandise covered by the Order which have been entered, or withdrawn from warehouse, for consumption on or after March 3, 2020, i.e., the effective date of the preliminary determination in the underlying less-than-fair-value (LTFV) investigation.

Rescission of Antidumping Duty Administrative Reviews

As the Order is being revoked effective as of the date of the preliminary determination in the LTFV investigation, Commerce is rescinding the administrative reviews ⁷ consistent with 19 CFR 351.213(d)(4) and 351.222(g)(4).

⁷ Id.

Instructions to CBP

Because we determine that there are changed circumstances that warrant revocation of the Order, we will instruct CBP to discontinue the suspension of liquidation and the collection of cash deposits of estimated antidumping duties, to liquidate all unliquidated entries that were entered on or after March 3, 2020, without regard to antidumping duties, and to refund all AD cash deposits on all such merchandise.

Commerce intends to issue instructions to CBP no earlier than 35 days after the date of publication of these final results and revocation in the Federal Register. If a timely summons is filed at the U.S. Court of International Trade, the assessment instructions will direct CBP not to liquidate relevant entries until the time for parties to file a request for a statutory injunction has expired (i.e., within 90 days of publication).

Notification to Interested Parties

This notice serves as a final reminder to parties subject to an administrative protective order (APO) of their responsibility concerning the disposition of proprietary information disclosed under APO in accordance with 19 CFR 351.305(a)(3). Timely written notification of the return/destruction of APO materials or conversion to judicial protective order is hereby requested. Failure to comply with the regulations and terms of an APO is a sanctionable violation.

We are issuing and publishing these final results, revocation and rescissions in accordance with sections 751(a)(1), 751(b), and 777(i) of the Act and 19 CFR 351.213(d)(4), 19 CFR 351.216, and 19 CFR 351.222.

Dated: January 26, 2023.
Lisa W. Wang,
Assistant Secretary for Enforcement and Compliance.

[FR Doc. 2023-02085 Filed 1-31-23; 8:45 am]

BILLING CODE 3510-DS-P